DEPARTMENT OF ENERGY

Federal Energy Regulatory Commission

[Docket No. ER11-3322-000]

PJM Interconnection, L.L.C.; Notice Establishing Post-Technical Comment Period

As indicated in the June 21, 2011 Notice in this docket, comments on the technical conference that was held on July 29, 2011, to discuss the performance measurement of demand response in PJM's capacity market, are due 15 days from the date of this conference, or Monday, August 15, 2011.

Dated: July 29, 2011.
Nathaniel J. Davis, Sr.,
Deputy Secretary.

[FR Doc. 2011-20045 Filed 8-8-11; 8:45 am]

BILLING CODE 6717-01-P